DEPARTMENT OF COMMERCE

National Oceanic and Atmospheric Administration

RIN 0648-XF77

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 140th meeting to consider and take actions on fishery management issues in the Western Pacific Region.

DATES: The 140th Council meeting and public hearings will be held on March 17-18, 2008 in Guam and March 20-21, 2008 in Saipan, Commonwealth of the Northern Mariana Islands (CNMI). For specific times and the agenda, see SUPPLEMENTARY INFORMATION.

ADDRESSES: The 140th Council meeting and public hearings will be held at the Guam Hilton, 202 Hilton Road, Tumon Bay, Guam, 96913 ; telephone: 671-646-1835; and the Fiesta Resort and SPA Saipan, P.O. Box 501029, Saipan, MP, 96950; telephone: 670-234-6418.

FOR FURTHER INFORMATION CONTACT: Kitty M. Simonds, Executive Director; telephone: 808-522-8220.

SUPPLEMENTARY INFORMATION: In addition to the agenda items listed here, the Council will hear recommendations from other Council advisory groups. Public comment periods will be provided throughout the agenda. The order in which agenda items are addressed may change. The Council will meet as late as necessary to complete scheduled business.

Schedule and Agenda for Council Standing Committee Meetings

Monday, March 17, 2008

Standing Committee Meetings

1. 7:00 a.m.—9:30 a.m. Executive and Budget Standing Committee

2. 9:30 a.m.—11:30 a.m. Pelagics Ecosystem and International Fisheries Standing Committee

3. 9:30 a.m.—11:30 a.m. Program Planning Standing Committee

The agenda during the full Council meeting will include the items listed here.

Schedule and Agenda for Council Meeting

12:30 p.m.—5:00 p.m. Monday, March 17, 2008

1. Opening Ceremony

2. Introductions

3. Approval of Agenda

4. Approval of 139th Meeting Minutes

5. Agency Reports

A. NMFS

1. Pacific Islands Regional Office (PIRO)

2. Pacific Islands Fisheries Science Center (PIFSC)

B. NOAA General Counsel

C. United States Fish and Wildlife Service (USFWS)

D. Enforcement

1. United States Coast Guard (USCG)

2. NOAA Office for Law Enforcement (OLE)

3. Status of Violations

6. Guest Speaker

9:00 a.m.—5:00 p.m. Tuesday, March 18, 2008

7. Mariana Archipelago 1-Guam

A. Isla Informe (Island Area Reports)

B. Enforcement Issues

C. Action Items

1. Guam Purse-seine Closed Area

2. Community Development Plan (CDP) Regulatory Amendment to Allow Future CDPs

D. Community Issues

1. Military Expansion

2. Transshipment Issues

E. Education and Outreach Initiatives

F. Marianas Fishery Ecosystem Plan (FEP) Advisory Panel Recommendations

G. Marianas FEP Plan Team Recommendations

H. Marianas FEP Regional Ecosystem Advisory Committee (REAC) Recommendations

I. Scientific and Statistical Committee (SSC) Recommendations

J. Public Hearing

K. Council Discussion and Action

8. Hawaii Archipelago and Pacific Remote Island Areas (PRIA)

A. Moku Pepa (Island Area Reports)

B. Enforcement Issues

C. Update on Status of Main Hawaiian Islands (MHI) Bottomfish Management and Monitoring

1. Data Collection, Processing and Analysis

a. Catch Reports

b. Dealer Reports

c. Delinquencies

2. Review Annual Data by Month for Last Three Years

3. Federal Regulations

4. State of Hawaii Rules and Regulations

5. Report on Economic Performance

D. Action Items

1. MHI Bottomfish Risk Analysis

E. Northwestern Hawaiian Islands (NWHI) Buyout

F. Community Issues

1. Seascape Initiatives

G. Local, National, & International Education and Outreach Initiatives

H. SSC Recommendations

I. Public Comment

J. Council Discussion and Action

9. Protected Species

A. Status of Protected Species Program

B. Update on Endangered Species Act (ESA) Consultations

C. Loggerhead Petition

D. Albatross Petition

E. Observer Program Report on American Samoa and Hawaii 2007 Longline Fisheries

F. Public Comment

G. Council Discussion and Action

10. Public Comment on Non-Agenda Items

9:00 a.m.—5:00 p.m. Thursday, March 20, 2008

11. Opening Ceremony

12. Introductions

13. Marianas Archipelago 2-CNMI

A. Arongo Flaeey (Island Area Reports)

B. Enforcement Issues

C. Action Items

1. CNMI Purse-seine Closed Area

2. CNMI Longline Closed Area

D. Community Issues

1. Military Expansion

2. CNMI Monument

E. Education and Outreach Initiatives

F. Marianas FEP Advisory Panel Recommendations

G. Marianas FEP Plan Team Recommendations

H. Marianas FEP REAC Recommendations

I. SSC Recommendations

J. Public Hearing

K. Council Discussion and Action

14. American Samoa Archipelago

A. Motu Repote (Island Area Reports)

B. Enforcement Issues

C. Action Items

1. American Samoa Purse-seine Closed Area

2. American Samoa Longline Program Modifications

3. American Samoa Marine Conservation Plan (MCP)

D. Community Issues

E. Education and Outreach Initiatives

F. SSC Recommendations

G. Public Hearing

H. Council Discussion and Action

9:00 a.m.—5:00 p.m. Friday, March 21, 2008

15. Pelagic and International Fisheries

A. Action Items

1. Hawaii Swordfish Fishery Effort

2. Squid Permits

B. International Fisheries

1. Fourth International Fishers Forum (IFF4)

2. Western and Central Pacific Fisheries Commission (WCPFC)

a. Report on WCPFC 4

b. Commissioners

c. Advisory Committee

d. Implementing Regulations

3. Northwest Pacific Bottomfishing Agreement

4. South Pacific Regional Fishery Management Organization (RFMO)

5. US Commissioners Meeting to Tuna RFMOs

6. Climate Impacts on Oceanic Top Predators (CLIOTOP)

C. Secretariat for the Pacific Community (SPC) report on Insular Fishing in the Pacific

D. Pacific Pelagic Advisory Panel Recommendations

E. Pacific Pelagic Plan Team Recommendations

F. Marianas FEP REAC Recommendations

G. SSC Recommendations

H. Standing Committee Recommendations

I. Public Hearing

J. Council Discussion and Action

16. Program Planning and Research

A. Magnuson Stevens Reauthorization Act (MSRA) Implementation

1. Annual Catch Limits (ACLs)

2. Council Five-Year Research Priorities

3. Status of Marine Recreational Information Program (MRIP)

4. National Environmental Policy Act (NEPA) Coordination

5. SSC, Peer Review, Stipends

6. Proposed Revisions to the Exempted Fishing Permit (EFP) Process

B. Update on Status of Fishery Management Plan (FMP) Actions

1. CNMI Bottomfish Logbooks

2. Barter/Trade Issues

C. Potential Permit Fees

D. Status of MCPs

E. Western Pacific Cooperative Research Priorities

F. Legislative Report

G. SSC Recommendations

H. Standing Committee Recommendations

I. Public Hearing

J. Council Discussion and Action

17. Administrative Matters & Budget

A. Financial Reports

B. Administrative Reports

C. Standard Operating Procedures and Protocols (SOPP) Review

D. Meetings and Workshops

E. Council Family Changes

F. Standing Committee Recommendations

G. Public Comment

H. Council Discussion and Action

18. Public Comment on Non-Agenda Items

19. Other Business

Special Accomodations

These meetings are physically accessible to people with disabilities. Requests for sign language interpretation or other auxiliary aids should be directed to Kitty M. Simonds, 808-522-8220 (voice) or (808)522-8226 (fax), at least 5 days prior to the meeting date.

Authority: 16 U.S.C. 1801 et seq.

Dated: March 18, 2008.
Tracey L. Thompson,
Acting Director, Office of Sustainable Fisheries, National Marine Fisheries Service.

[FR Doc. 08-1062 Filed 3-18-08; 3:31 pm]

BILLING CODE 3510-22-S